DEPARTMENT OF HEALTH AND HUMAN SERVICES

Health Resources and Services Administration

Availability of Funds

AGENCY: Health Resources and Services Administration (HRSA), HHS.

ACTION: General Notice.

SUMMARY: The Health Resources and Services Administration (HRSA) announces that applications will be accepted for fiscal year 2002 competitive Cooperative Agreements for health workforce research.

Purpose

The purpose of these Cooperative Agreements is to conduct research that will contribute to: (1) The development of information describing the current status of the health professions workforce and (2) the analysis of fundamental health workforce related issues. These Cooperative Agreements will support a wide range of projects designed to address health workforce issues at the National, Regional and State levels.

Authorizing Legislation

These Cooperative Agreements are governed by section 761 of Title VII of the Public Health Service Act, as amended, which authorizes the development of information describing the health professions workforce and analysis of workforce related issues and necessary information for decision-making regarding future direction in health professions and nursing programs in response to societal and professional needs. Section 761 also authorizes the development of a non-Federal analytic and research infrastructure for health workforce data collection and analysis.

Federal Role

The Federal role in the conduct of these cooperative agreements allow for substantial Federal programmatic involvement in the planning and development of and the reports resulting from these studies. The Bureau of Health Professions (BHPr) program officer may be assisted in this effort by program staff of the BHPr divisions. The Federal Government involvement will include:

(a) Participation in the approval of study protocols and methodologies;

(b) Providing information about issues that are relevant to Federal policy makers or issues of particular national interest;

(c) Consultation regarding sub-contracts awarded under these cooperative agreements;

(d) Assistance in supplying data relevant to the studies or in identifying sources of such data, including other Federal agencies, or other public and private organizations; and

(e) Assistance in the dissemination of the results and, if appropriate, participation in their publication in peer-reviewed journals.

Eligible Applicants

Eligible applicants are State or local governments, health professions schools, schools of nursing, academic health centers, community-based health facilities, and other appropriate public or private non-profit entities, including faith-based organizations.

Review Criteria

The specific review criteria used to review and rank applications are included in the individual guidance material provided with the application kits and are listed below. Applicants should pay strict attention to addressing these criteria, as they are the basis upon which their applications will be judged by the reviewers and are as follows:

1. The degree to which an applicant specializes in health workforce research. An applicant will be considered as specializing in health workforce research through identification of it's mission, health workforce research accomplishments, and dedicated staff to health workforce research.

2. The degree to which the applicant demonstrates State and National experience and accomplishments in health workforce issues and research directly supporting the BHPr National Center for Health Workforce Analysis and the BHPr priorities: Health workforce distribution, racial/ethnic diversity of the health workforce, geriatrics, and genetics. Experience and accomplishments can be demonstrated through past or currently funded research.

3. The degree to which the applicant has health workforce research experience relevant to the proposed research project. For example, for a proposed research project that focuses on a given geographic area such as the US-Mexico border, the applicant should demonstrate experience in conducting US-Mexico border health workforce research. In terms of workforce discipline-specific studies, the applicant should demonstrate experience in conducting research on the given discipline.

4. The degree to which the applicant's proposed research includes:

a. A well-developed background statement

b. Clearly stated research objectives

c. Clearly stated project activities and methodology

d. A well-developed, reasonable management plan that will enable the successful completion of the project.

Application Requests, Availability, Dates and Adresses

Application kits will be available upon request on May 1, 2002. Applicants may request the application kits by contacting the HRSA Grants Application Center, 901 Russell Avenue, Suite 450, Gaithersburg, Maryland, 20879, by calling at 1-877-477-2123, by fax at 1-877-477-2345, or by e-mail at hrsaga@hrsa.gov. Application materials will also be available for downloading via the World Wide Web at: http://www.hrsa.gov/grants.htm. In order to be considered for competition, applications must be received by mail or delivered to the HRSA Grants Application Center by no later than June 19, 2002. Applications received after the deadline or sent to any address other than the address above, will be returned to the applicant and not processed.

Estimated Project Period

The estimated project period for each of the Cooperative Agreements is one year with an approximate award date of September 30, 2002.

Project Descriptions

Understanding International Medical Graduates (IMGs) 93.900

The purpose of this cooperative agreement is to collect data and information that will describe IMGs-who they are, where they came from, their visa status, role in addressing needs for healthcare providers in HPSA's and how long they stay in underserved areas. It will also study the impact of September 11 on the number of J-1 waivers.

Estimated award: $250,000.

Role and Limitations of Telemedicine in Improving “Access” 93.900

The purpose of this cooperative agreement is to conduct a comprehensive analysis of telemedicine in rural and other underserved areas. It will also identify the issues and barriers in the implementation of telemedicine and evaluate and research sucessful models to identify best practices.

Estimated award: $200,000.

Supply, Demand and Workforce Issues for 25 Allied Health Occupations 93.900

The purpose of this cooperative agreement is to provide projections of supply and demand for and an analysis of allied health occupations, including Diagnostic Medical Sonographer, Dietetic Technician, EMT-Paramedics, Medical Assistant, Nuclear Medicine Technologist, and Surgical Technologist. Applicant may propose and justify additional disciplines to be included.

Estimated award: $275,000.

Clinical Laboratory Sciences Workers Shortage Study 93.900

The purpose of this cooperative agreement is to analyze data on medical laboratory personnel including demographics, employment, education, employment issues, and assess supply and demand for shortages. The study will define the magnitude of laboratory personnel shortage and identify major contributing factors influencing the supply and demand of laboratory personnel. The study will describe impact of shortage on the health care system.

Estimated award: $160,000.

Supply, Demand, Use of Licensed Practical Nurses (LPNs) 93.900

The purpose of this cooperative agreement is to provide a better understanding of the supply, demand, distribution and utilization of LPNs (including their ability to substitute for registered nurses) and to develop recommendations for the education and utilization of LPNs.

Estimated award: $275,000.

Develop National Database on Nurse Practitioners 93.900

The purpose of this cooperative agreement is to design and promote the development of a national nurse practitioner database that documents the number and characteristics of nurse practitioners, including demographic, job activity, and work-setting data. The database should be designed to provide the basic research information needed to analyze the nurse practitioner workforce.

Estimated award: $125,000.

Adequacy of Current and Future Dental Workforce 93.900

The purpose of this cooperative agreement is to: (1) assess the adequacy of the current dental workforce supply and expected demand and (2) project the demand of dental workforce.

Estimated award: $100,000.

Assessing Variations in Retirement Plans of Physicians by Gender, Race, Specialty, Age and Other Factors 93.900

The purpose of this cooperative agreement is to assess variations in the retirement plans of physicians by: gender, race specialty, age, practice location (urban, suburban and rural) and by location of medical school (International Medical Graduate versus U.S. Medical Graduate).

Estimated award: $50,000.

Assessing Disparities of the Health Workforce Distribution in Underserved Areas of Texas and New Mexico Border Regions 93.900

The purpose of this cooperative agreement is to determine the applicability of recent developments in Geographic Information Systems (GIS) technology and studies to more clearly assess and monitor shortages and health workforce needs in underserved areas of the U.S./Mexico Border region of Texas and New Mexico. Estimated award: $148,000.

Genetic Issues of the Hispanic Border Population 93.900

The purpose of this cooperative agreement is to: (1) Characterize testable genetic issues along the border, (2) characterize genetic services in rural and underserved areas of the Texas and U.S./Mexico border region, and (3) identify the roles of health professionals in providing genetic services in rural areas of Texas and border regions.

Estimated award: $100,000.

Improving Health Professions Education Programs Planning in New York 93.900

The purpose of this cooperative agreement is to develop a model collaboration between a Regional Workforce Study Center and a university to better plan health professions/nursing education programs. The Regional Workforce Center will use it knowledge about health workforce supply, demand and issues to advise educational program planners.

Estimated award: $50,000.

The Workforce Investment Act of 1998: Are States Targeting the Health Workforce? 93.900

The purpose of this cooperative agreement is to identify and enumerate the goals and strategies that State Workforce Reinvestment Boards have identified or employed in an effort to develop the health care workforce. The analysis should include all States and Territories.

Estimated award: $100,000.

Health Workforce Needs in the U.S. Virgin Islands 93.900

The purpose of this cooperative agreement is to evaluate the health workforce needs in the U.S. Virgin Islands as a first step in assuring access to high quality health care.

Estimated award: $50,000.

Additional Information

For programmatic information, please contact Sarah Richards (phone 301-443-5452 or via email at srichards@hrsa.gov) or Lou Kuta (phone 301-443-6634 or via e-mail at lkuta@hrsa.gov).

Paperwork Reduction Act

The Standard application form PHS 398, PHS Grant Application, has been approved by the Office of Management and Budget (OMB) under the Paperwork Reduction Act. The OMB clearance number is 0925-0001.

The Cooperative agreements described in this announcement will not involve data collection activities that fall under the purview of the Paperwork Reduction Act of 1995.

Dated: May 17, 2002.
Elizabeth M. Duke,
Administrator.

[FR Doc. 02-12928 Filed 5-22-02; 8:45 am]

BILLING CODE 4165-15-P